DEPARTMENT OF HOUSING AND URBAN DEVELOPMENT

[Docket No. FR-5752-N-45]

30-Day Notice of Proposed Information Collection: Focus Groups About the Housing Search Process for Lesbian, Gay, Bisexual and Transgender (LGBT) People

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: June 4, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on January 15, 2014.

A. Overview of Information Collection

Title of Information Collection: Focus Groups about the Housing Search Process for Lesbian, Gay, Bisexual and Transgender (LGBT) People.

OMB Approval Number: 2528-New.

Type of Request: New collection.

Form Number: None.

Description of the need for the information and proposed use: The Department is conducting this study as part of a larger effort to study housing discrimination. As part of that research, the Department would like to learn more about the process that people use to search for housing. Specifically, we are interested in the manner in which people identify themselves as lesbian, gay, or transgender when searching for rental housing. The full project is to conduct in-person testing for lesbian and gay people in at least two major metropolitan rental markets and transgender people in at least one market. The study will use paired testing methods to measure disparate treatment.

Respondents (i.e. affected public):

Potential renters who are LGBT persons (four focus groups of 15 people each) | Up to 60.
Potential renters who are heterosexual, for comparison purposes | Up to 15.

Estimation of the total number of hours needed to prepare the information collection including number of respondents, frequency of response, and hours of response:

Instrument | Number of respondents | Number responses per respondent | Average burden/response (in hours) | Total burden hours
Informed Consent Form (ICF) | 75 | 1 | Up to 15 minutes (or .25 hours) | 18.75
Participation in focus group | 75 | 1 | 120 minutes (2 hours) | 150
Total |  |  |  | 168.75

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 29, 2014.
Colette Pollard,
Department Reports Management Officer, Office of the Chief Information Officer.

[FR Doc. 2014-10218 Filed 5-2-14; 8:45 am]

BILLING CODE 4210-67-P